DEPARTMENT OF EDUCATION

Office of Vocational and Adult Education; Overview Information; Native American Career and Technical Education Program (NACTEP); Notice Inviting Applications for New Awards for Fiscal Year (FY) 2006

Catalog of Federal Domestic Assistance (CFDA) Number: 84.101.

Dates:

Applications Available: March 23, 2007.

Deadline for Transmittal of Applications: May 7, 2007.

Eligible Applicants: (a) The following entities are eligible for an award under NACTEP:

(i) A federally recognized Indian tribe.

(ii) A tribal organization.

(iii) An Alaska Native entity.

(iv) A Bureau-funded school, except for a Bureau-funded school proposing to use its award to support secondary school career and technical education programs.

(b) Any tribe, tribal organization, Alaska Native entity, or eligible Bureau-funded school may apply individually or as part of a consortium with one or more eligible tribes, tribal organizations, Alaska Native entities, or eligible Bureau-funded schools. (Eligible applicants seeking to apply for funds as a consortium must meet the requirements in 34 CFR 75.127-75.129, which apply to group applications.)

Note: An applicant must include documentation in its application showing that it and, if appropriate, consortium members are eligible according to the requirements in paragraphs (a) and (b) of the Eligible Applicants section of this notice.

Note: In accordance with the definition of the term “tribal organization” in the Indian Self-Determination and Education Assistance Act (ISDEA) (25 U.S.C. 450b(l)), any tribal organization proposing to provide NACTEP services for the benefit of more than one Indian tribe must first obtain the approval of each Indian tribe it proposes to serve and must submit documentation of such approval with its application. Documentation of tribal approval is a prerequisite to the awarding of a NACTEP grant to any tribal organization proposing to serve more than one Indian tribe.

Estimated Available Funds: $14,632,000 for the first 12 months of the project period. Funding for years two through five is subject to the availability of funds and to a grantee meeting the requirements of 34 CFR 75.253. FY 2006 funds will be used for new awards under this competition.

Estimated Range of Awards: $300,000 to $600,000 for the first 12 months.

Estimated Average Size of Awards: $400,000.

Estimated Number of Awards: 36.

Note: The Department is not bound by any estimates in this notice.

Project Period: Up to 60 months.

I. Funding Opportunity Description

Purpose of Program: The Native American Career and Technical Education Program (NACTEP), formerly known as the Native American Vocational and Technical Education Program (NAVTEP), provides grants to improve career and technical education programs that are consistent with the purposes of the Carl D. Perkins Career and Technical Education Act of 2006 (the Act) and that benefit Native Americans and Alaska Natives.

Background Information

This notice invites applications for a NACTEP competition that implements section 116 of the Act, enacted August 12, 2006. As was previously the case with NAVTEP, section 116 of the Act continues to authorize the Secretary to award grants, cooperative agreements, or enter into contracts with Indian tribes, tribal organizations, and Alaska Native entities to operate career and technical education projects that improve career and technical education for Native American and Alaska Native students.

Under section 116 of the Act, Bureau-funded schools proposing to fund secondary programs are not eligible to receive an award directly from the Secretary. However, an Indian tribe, tribal organization, Alaska Native entity, or Bureau-funded school may use its award to assist a secondary school operated or supported by the U.S. Department of the Interior to carry out career and technical education programs. A Bureau-funded school that is not proposing a secondary program is eligible for assistance under NACTEP.

For the convenience of applicants, we describe in this notice the major statutory changes made to the Carl D. Perkins Vocational and Technical Education Act of 1998 (Perkins III), which was amended by the Act, that affect NACTEP.

Statutory Changes Affecting NACTEP

(a) Purpose. In the Act, Congress has expanded and added elements to the statement of purpose, most significantly by stating that, among other statutory purposes, programs should build on the efforts of States and localities to develop challenging academic and technical standards and to assist students in meeting such standards, including in preparation for high-skill, high-wage, or high-demand occupations in emerging or established professions. (20 U.S.C. 2301(1)) Congress has also added to the statement of purpose the requirement that programs provide technical assistance that promotes leadership, initial preparation, professional development and improves the quality of, career and technical education teachers, faculty, administrators, and counselors. (20 U.S.C. 2301(5)) Additionally, the Act's purpose section has been amended to include supporting partnerships among secondary schools, postsecondary institutions, baccalaureate degree-granting institutions, area career and technical education schools, local workforce investment boards, business and industry, and intermediaries, as well as providing in conjunction with other education and training programs, individuals with opportunities throughout their lives to develop the knowledge and skills needed to keep the United States competitive. (20 U.S.C. 2301(6) and (7))

(b) Definitions. In the Act, Congress has amended the definitions of certain terms that affect NACTEP. Most significantly, the term “career and technical education” has replaced the term “vocational and technical education” throughout the Act. Thus, in this notice we use the term “career and technical education.” Moreover, under the new definition of career and technical education, the sequence of courses provided as part of a career and technical education program must provide students with coherent and rigorous content aligned with challenging academic standards and relevant technical knowledge and skills needed to prepare for further education and careers in current or emerging professions. (20 U.S.C. 2302(5)(A)(i))

(c) Special Populations. Paragraph (F) of the definition of “Special Populations” in section 3(29) of the Act uses the phrase “individuals with limited English proficiency” instead of the phrase “individuals with other barriers to educational achievement, including individuals with limited English proficiency” that was used in Perkins III. (20 U.S.C. 2302(29)(F)) Although the Act no longer includes, within the definition of “special populations,” the phrase “individuals with other barriers to educational achievement,” under section 324 of the Act NACTEP students with other barriers to educational achievement may receive assistance such as tuition and fees, dependent care, transportation, books, and supplies, that are necessary for a student to participate in a project funded under this program. (20 U.S.C. 2414(b))

Note: Refer to the Direct assistance to students and Student stipends sections of this notice for guidance on providing financial assistance for tuition, dependent care, transportation, books, supplies, and stipends.

Authorized Programs, Services and Activities

(a) Authorized programs. Section 116(e) of the Act requires the Secretary to ensure that activities funded under NACTEP “will improve career and technical education programs.” (20 U.S.C. 2326(e)) This requirement, first introduced in NAVTEP, continues to align NACTEP with other programs authorized under the Act that require recipients of funds under the Act to develop challenging academic standards and improve career and technical education.

Under this competition the Secretary awards grants to carry out projects that—

(i) Propose organized educational activities offering a sequence of courses that (1) provides individuals with coherent and rigorous content aligned with challenging academic standards and relevant technical knowledge and skills needed to prepare for further education and careers in current or emerging professions; (2) provides technical skill proficiency, an industry-recognized credential, a certificate, or an associate degree; and (3) includes competency-based applied learning that contributes to the academic knowledge, higher-order reasoning and problem-solving skills, work attitudes, general employability skills, technical skills, and occupation-specific skills, and knowledge of all aspects of an industry, including entrepreneurship, of an individual. Projects may include prerequisite courses (other than remedial courses) that meet the definitional requirements of section 3(5) of the Act. (20 U.S.C. 2302(5)) In addition, at the secondary level, coherent and rigorous academic curriculum must be aligned with challenging academic content standards and student academic achievement standards in reading/language arts and mathematics that the State in which the applicant is located has established under the No Child Left Behind Act of 2001 (NCLB). (20 U.S.C. 6301) Contacts for State NCLB programs may be found on the Internet at: http://www.ed.gov/about/contacts/State/index.html.

(ii) Develop new programs, services, or activities or improve or expand existing programs, services, or activities that are consistent with the purposes of the Act. In other words, the Department will support “expansions” or “improvements” that include, but are not limited to, the expansion of effective programs or practices; upgrading of activities, equipment, or materials; increasing staff capacity; adoption of new technology; modification of curriculum; or implementation of new policies to improve program effectiveness and outcomes.

(iii) Fund a career and technical education program, service, or activity that—

(1) Is a new program, service, or activity that was not provided by the applicant during the instructional term (a defined period, such as a semester, trimester, or quarter, within the academic year) that preceded the request for funding under NACTEP;

(2) Will improve or expand an existing career and technical education program; or

(3) Inherently improves career and technical education.

Note: A program, service, or activity “inherently improves career and technical education” if it—

(i) Develops new career and technical education programs of study that will be approved by the appropriate accreditation agency;

(ii) Strengthens the rigor of the academic and career and technical components of funded programs;

(iii) Uses curriculum that is aligned with industry-recognized standards and will result in students attaining industry-recognized credentials, certificates, or degrees;

(iv) Integrates academics (other than remedial courses) with career and technical education programs through a coherent sequence of courses to ensure learning in the core academic and career and technical subjects;

(v) Links career and technical education at the secondary level with career and technical education at the postsecondary level and facilitates students' pursuit of a baccalaureate degree;

(vi) Expands the scope, depth, and relevance of curriculum, especially content that provides students with a comprehensive understanding of all aspects of an industry and a variety of hands-on, job-specific experiences; and

(vii) Offers—

(1) Work-related experience, internships, cooperative education, school-based enterprises, entrepreneurship, community service learning, and job shadowing that are related to career and technical education programs;

(2) Coaching/mentoring, support services, and extra help for students after school, on the weekends, and/or during the summers so they can meet higher standards;

(3) Career guidance and academic counseling for students participating in career and technical education programs;

(4) Placement services for students who have successfully completed career and technical education programs and attained a technical skill proficiency that is aligned with industry-recognized standards;

(5) Professional development programs for teachers, counselors, and administrators; and

(6) Strong partnerships among grantees and local educational agencies, postsecondary institutions, community leaders, adult education providers, and, as appropriate, other entities, such as employers, labor organizations, parents, and local partnerships, to enable students to achieve State academic standards and career and technical skills;

(7) The use of student assessment and evaluation data to improve continually instruction and staff development with the goal of increasing student achievement in career and technical education programs; or

(8) Research, development, demonstration, dissemination, evaluation and assessment, capacity building, and technical assistance, related to career and technical education programs.

(b) Assistance to Bureau-funded secondary schools. An Indian tribe, a tribal organization, or an Alaska Native entity, that receives funds through a NACTEP grant or contract may use the funds to provide assistance to a secondary school operated or supported by the U.S. Department of the Interior to enable such school to carry out career and technical education programs.

(c) Student stipends. A portion of an award under this program may be used to provide stipends to a student to help meet the costs of participation in a NACTEP project.

(i) To be eligible for a stipend a student must—

(1) Be enrolled in a career and technical education project funded under this program;

(2) Be in regular attendance in a NACTEP project and meet the training institution's attendance requirement;

(3) Maintain satisfactory progress in his or her program of study according to the training institution's published standards for satisfactory progress; and

(4) Have an acute economic need that—

(A) Prevents participation in a project funded under this program without a stipend; and

(B) Cannot be met through a work-study program.

(ii) The amount of a stipend is the greater of either the minimum hourly wage prescribed by State or local law or the minimum hourly wage established under the Fair Labor Standards Act.

(iii) A grantee may only award a stipend if the stipend combined with other resources the student receives does not exceed the student's financial need. A student's financial need is the difference between the student's cost of attendance and the financial aid or other resources available to defray the student's cost of participating in a NACTEP project.

(iv) To calculate the amount of a student's stipend, a grantee would multiply the number of hours a student actually attends career and technical education instruction by the amount of the minimum hourly wage that is prescribed by State or local law, or by the minimum hourly wage that is established under the Fair Labor Standards Act.

Example: If a grantee uses the Fair Labor Standards Act minimum hourly wage of $5.15 and a student attends classes for 20 hours a week, the student's stipend would be $103 for the week during which the student attends classes ($5.15 × 20 = 103).

Note: Grantees must maintain records that fully support their decisions to award stipends and the amounts that are paid, such as proof of a student's enrollment in a NACTEP project, stipend applications, timesheets showing the number of attendance hours confirmed in writing by an instructor, student financial status information, and evidence that a student would not be able to participate in the NACTEP project without a stipend. (20 U.S.C. 1232f; 34 CFR 75.700-75.702; 75.730; and 75.731)

(v) An eligible student may receive a stipend when taking a course for the first time. However, generally a stipend may not be provided to a student who has already taken, completed, and had the opportunity to benefit from a course and is merely repeating the course.

(vi) An applicant must include in its application the procedure it intends to use to determine student eligibility for stipends and stipend amounts, and its oversight procedures for the awarding and payment of stipends.

(d) Direct assistance to students. A grantee may provide direct assistance to a student if the following conditions are met:

(i) The recipient of the direct assistance is an individual who is a member of a special population and who is participating in a NACTEP project.

(ii) The direct assistance is needed to address barriers to the individual's successful participation in a NACTEP project.

(iii) The direct assistance is part of a broader, more generally focused program or activity to address the needs of an individual who is a member of a special population.

Note: Direct assistance to individuals who are members of special populations is not, by itself, a “program or activity for special populations.”

(iv) The grant funds used for direct assistance must be expended to supplement, and not supplant, assistance that is otherwise available from non-Federal sources. For example, generally, a postsecondary educational institution could not use NACTEP funds to provide child care for single parents if non-Federal funds previously were made available for this purpose, or if non-Federal funds are used to provide child care services for single parents participating in non-career and technical education programs and these services otherwise would have been available to career and technical education students in the absence of NACTEP funds.

(v) In determining how much of the NACTEP grant funds it will use for direct assistance to an eligible student, a grantee must consider whether the specific services to be provided are a reasonable and necessary cost of providing career and technical education programs for special populations. However, the Secretary does not envision a circumstance in which it would be a reasonable and necessary expenditure of NACTEP project funds for a grantee to utilize a majority of a project's budget to pay direct assistance to students, in lieu of providing the students served by the project with career and technical education.

Additional Program Requirements

(a) Appeal process. Any applicant denied funding under this NACTEP competition may request a hearing to review the Secretary's decision not to make the award. The Secretary will implement the appeal process in accordance with the procedures set forth in 34 CFR 401.23. In accordance with those procedures, any applicant denied funding will have 30 calendar days to make a written request to the Secretary for a hearing to review the Secretary's decision.

(b) Career and technical education agreement. Any applicant that is not proposing to provide career and technical education directly to its students and proposes instead to use NACTEP funds to pay one or more qualified educational entities to provide education to its students must include with its application a written career and technical education agreement between the applicant and that entity. The written agreement must describe the commitment between the applicant and the educational entity and must include, at a minimum, a statement of the responsibilities of the applicant and the entity. The agreement must be signed by the appropriate individuals on behalf of each party, such as the authorizing official or president of a tribe or tribal organization, a college president, or a college dean.

(c) Limitation on services. Section 315 of the Act prohibits the use of funds received under the Act to provide career and technical education programs to students prior to the seventh grade.

(d) Supplement-Not-Supplant. In accordance with section 311(a) of the Act, funds under this program may not be used to supplant non-Federal funds used to carry out career and technical education activities and tech-prep activities. Further, the prohibition against supplanting also means that grantees are required to use their negotiated restricted indirect cost rates under this program. (34 CFR 75.563)

The Secretary cautions applicants not to plan to use funds under NACTEP to replace otherwise available non-Federal funding for “direct assistance to students” and family assistance programs. For example, NACTEP funds must not be used to supplant tribal and other non-Federal funds with Federal funds in order to pay the costs of students' tuition, dependent care, transportation, books, supplies, and other costs associated with participation in a career and technical education program.

Further, the Secretary is concerned that funds under NACTEP may be used to replace Federal student financial aid. The Secretary wishes to highlight that the Act does not authorize the Secretary to fund projects that serve primarily as entities through which students may apply for and receive tuition and other financial assistance.

Evaluation Requirements

To ensure the high quality of NACTEP projects and the achievement of the goals and purposes of section 116(e) of the Act, each grantee must budget for and conduct an ongoing evaluation of the effectiveness of its program. An independent evaluator must conduct the evaluation. The evaluation must—

(a) Be appropriate for the project and be both formative and summative in nature;

(b) Include—

(i) The performance measures for NACTEP that are identified in the Performance Measures section of this notice;

(ii) Qualitative and quantitative data with respect to—

(1) Academic and career and technical competencies demonstrated by the participants and the number and kinds of academic and work credentials acquired by individuals, including participation in programs providing skill proficiency assessments, industry certifications, or training at the associate degree level that is articulated with an advanced degree option;

(2) Enrollment, completion, and placement of participants by gender for each occupation for which training was provided;

(3) Job or work skill attainment or enhancement, including participation in apprenticeship and work-based learning programs, and student progress in achieving technical skill proficiencies necessary to obtain employment in the field for which the student has been prepared, including attainment or enhancement of technical skills in the industry the student is preparing to enter;

(4) Activities during the formative stages of the project to help guide and improve the project, as well as a summative evaluation that includes recommendations for disseminating information on project activities and results;

(5) The number and percentage of students that obtained industry-recognized credentials, certificates, or degrees;

(6) The outcomes of students' technical assessments, by type and scores, if available; and

(7) The rates of attainment of a proficiency credential or certificate, in conjunction with a secondary school diploma;

(c) Measure the effectiveness of the project, including a comparison between the intended and observed results, and a demonstration of a clear link between the observed results and the specific treatment given to project participants;

(d) Measure the extent to which information about or resulting from the project was disseminated at other sites, such as through the grantee's development and use of guides or manuals that provide step-by-step directions for practitioners to follow when initiating similar efforts; and

(e) Measure the long-term impact of the project, e.g., follow-up data on students' employment, sustained employment, promotions, and further/continuing education or training, or the impact the project had on tribal economic development or career and technical education activities offered by tribes.

Integration of Services

(a) A tribe, tribal organization, or Alaska Native entity receiving financial assistance under this program may integrate those funds with assistance received from related programs in accordance with the provisions of Public Law 102-477, the Indian Employment, Training and Related Services Demonstration Act of 1992 (25 U.S.C. 3401 et seq.).

(b) A tribe, tribal organization, or Alaska Native entity wishing to integrate funds must have a plan that meets the requirements of the Indian Employment, Training and Related Services Demonstration Act and is acceptable to the Secretary of the Interior and the Secretary of Education.

For further information on the integration of grant funds under this and related programs contact Lynn Forcia, Chief, Division of Workforce Development, Office of Indian Energy and Economic Development, U.S. Department of the Interior, 1951 Constitution Avenue, NW., Mailstop 20 SIB, Washington, DC 20245. Telephone: (202) 219-5270. E-mail address: ieed@bia.edu. Fax: (202) 208-6991.

Indian Self-Determination Contracts

Section 116(b)(2) of the Act provides that grants or contracts awarded under section 116 of the Act are subject to the terms and conditions of section 102 of the ISDEA (25 U.S.C. 450f) and must be conducted in accordance with the provisions of sections 4, 5, and 6 of the Act of April 16, 1934 (25 U.S.C. 455-457), that are relevant to the programs administered under section 116(b) of the Act. Section 102 of the ISDEA authorizes Indian tribes to request self-determination contracts. Accordingly, an Indian tribe or tribal organization that has applied to the Secretary for financial assistance under NACTEP and has been notified of its selection to be a recipient of financial assistance may submit a request to operate its NACTEP project through a section 102 Indian self-determination contract.

In accordance with section 102(a) of the ISDEA, any Indian tribe or tribal organization requesting to operate its project under an Indian self-determination contract must do so by tribal resolution. After successful applicants are selected under this NACTEP competition, the Secretary will review any requests to operate a project under an Indian self-determination contract pursuant to the ISDEA. If a request for an Indian self-determination contract is approved, the Indian tribe or tribal organization submitting the request will be required, to the extent possible, to operate its project in accordance with the ISDEA, the Act, and the non-statutory program requirements established in this notice.

As with grants under NACTEP, self-determination contracts under NACTEP are limited to a 60-month project period and are subject to the availability of funds. The career and technical education programs, services, and activities provided through an Indian self-determination contract would have to be essentially the same as were proposed in the initial application and approved by the Department. Any Indian tribe or tribal organization that is selected to receive funding under this competition, but whose request for an Indian self-determination contract is denied, may appeal the denial to the Secretary. If you have questions about ISDEA self-determination contracts, please contact the persons listed in the FOR FURTHER INFORMATION CONTACT section of this notice.

Definitions

Act of April 16, 1934 means the Federal law commonly known as the “Johnson-O'Malley Act” that authorizes the Secretary of the Interior to enter into contracts for the education of Indians and other purposes. (25 U.S.C. 455-457)

Acute economic need means an income that is at or below the national poverty level according to the latest available data from the U.S. Department of Commerce or the U.S. Department of Health and Human Services Poverty Guidelines.

Alaska Native or Native means a citizen of the United States who is a person of one-fourth degree or more Alaska Indian (including Tsimshian Indians not enrolled in the Metlakta Indian Community) Eskimo, or Aleut blood, or a combination thereof. The term includes—

(a) Any Native, as so defined, either or both of whose adoptive parents are not Natives; and

(b) In the absence of proof of a minimum blood quantum, any citizen of the United States who is regarded as an Alaska Native by the Native village or Native group of which he or she claims to be a member and whose father or mother is (or, if deceased, was) regarded as Native by any village or group. Any decision of the Secretary of the Interior regarding eligibility for enrollment will be final. (20 U.S.C. 2326(a)(1); 43 U.S.C. 1602(b))

Alaska Native entity means an entity such as an Alaska Native village, group, or regional or village corporation.

Alaska Native group means any tribe, band, clan, village, community, or village association of Natives in Alaska composed of less than twenty-five Natives, who comprise a majority of the residents of the locality. (43 U.S.C. 1602(d))

Alaska Native village means any tribe, band, clan, group, village, community, or association in Alaska—

(a) Listed in sections 1610 and 1615 of the Alaska Native Claims Settlement Act; or

(b) That meets the requirements of chapter 33 of the Alaska Native Claims Settlement Act; and

(c) That the Secretary of the Interior determines was, on the 1970 census enumeration date (as shown by the census or other evidence satisfactory to the Secretary of the Interior, who shall make findings of fact in each instance), composed of twenty-five or more Natives. (43 U.S.C. 1602(c))

Alaska regional corporation means an Alaska Native regional corporation established under the laws of the State of Alaska in accordance with the provisions of chapter 33 of the Alaska Native Claims Settlement Act. (43 U.S.C. 1602(g))

Alaska village corporation means an Alaska Native Village Corporation organized under the laws of the State of Alaska as a business for profit or nonprofit corporation to hold, invest, manage and/or distribute lands, property, funds, and other rights and assets for and on behalf of an Alaska Native village in accordance with the terms of chapter 33 of the Alaska Native Claims Settlement Act. (43 U.S.C. 1602(j))

Bureau means the Bureau of Indian Affairs of the U.S. Department of the Interior. (25 U.S.C. 2021(2))

Bureau-funded school means—

(a) A Bureau-operated elementary or secondary day or boarding school or Bureau-operated dormitory for students attending a school other than a Bureau school. (25 U.S.C. 2021(3) and (4));

(b) An elementary school, secondary school, or dormitory, that receives financial assistance for its operation under a contract, grant, or agreement with the Bureau under section 102, 103(a), or 208 of ISDEA (25 U.S.C. 450f, 450h(a), or 458d) or under the Tribally Controlled Schools Act of 1988 (25 U.S.C. 2504 et seq.). (25 U.S.C. 2021(3) and (5)); or

(c) A school for which assistance is provided under the Tribally Controlled Schools Act of 1988 (25 U.S.C. 2501 et seq.). (25 U.S.C. 2021)

Career and technical education means organized educational activities that—

(a) Offer a sequence of courses that—

(1) Provides individuals with coherent and rigorous content aligned with challenging academic standards and relevant technical knowledge and skills needed to prepare for further education and careers in current or emerging professions;

(2) Provides technical skills proficiency, an industry-recognized credential, a certificate, or an associate degree; and

(3) May include prerequisite courses (other than remedial courses) that meet the requirements of this definition; and

(b) Include competency-based applied learning that contributes to the academic knowledge, higher-order reasoning and problem-solving skills, work attitudes, general employability skills, technical skills, and occupation-specific skills, and knowledge of all aspects of an industry, including entrepreneurship, of the individual. (20 U.S.C. 2302(5))

Coherent sequence of courses means a series of courses in which career and academic education is integrated, and that directly relates to, and leads to, both academic and occupational competencies. The term includes competency-based education and academic education, and adult training or retraining, including sequential units encompassed within a single adult retraining course, that otherwise meet the requirements of this definition.

Direct assistance to students means tuition, dependent care, transportation, books, and supplies that are necessary for a student to participate in a project funded under this program.

Indian means a person who is a member of an Indian tribe. (20 U.S.C. 2326(a)(3); 25 U.S.C. 450b(d))

Indian tribe means any Indian tribe, band, nation, or other organized group or community, including any Alaska Native village or regional or village corporation as defined in or established pursuant to the Alaska Native Claims Settlement Act (43 U.S.C. 1601 et seq.), that is recognized as eligible for the special programs and services provided by the United States to Indians because of their status as Indians. (20 U.S.C. 2326(a)(3); 25 U.S.C. 450b(e))

Institution of higher education means—

(a) An educational institution in any State that—

(1) Admits as regular students only persons having a certificate of graduation from a school providing secondary education, or the recognized equivalent of such a certificate;

(2) Is legally authorized within such State to provide a program of education beyond secondary education;

(3) Provides an educational program for which the institution awards a bachelor's degree or provides not less than a 2-year program that is acceptable for full credit toward such a degree;

(4) Is a public or other nonprofit institution; and

(5) Is accredited by a nationally recognized accrediting agency or association or, if not so accredited, is an institution that has been granted preaccreditation status by such an agency or association that has been recognized by the Secretary of the Education for the granting of preaccreditation status, and the Secretary of Education has determined that there is satisfactory assurance that the institution will meet the accreditation standards of such an agency or association within a reasonable time.

(b) The term also includes—

(1) Any school that provides not less than a 1-year program of training to prepare students for gainful employment in a recognized occupation and that meets the provisions of paragraphs (a)(1), (2), (4) and (5) of this definition.

(2) A public or nonprofit private educational institution in any State that, in lieu of the requirement in paragraph (a)(1) of this definition, admits as regular students persons who are beyond the age of compulsory school attendance in the State in which the institution is located. (20 U.S.C. 1001 and 2302(18))

Special populations means—

(a) Individuals with disabilities;

(b) Individuals from economically disadvantaged families, including foster children;

(c) Individuals preparing for nontraditional training fields;

(d) Single parents, including single pregnant women;

(e) Displaced homemakers; and

(f) Individuals with limited English proficiency. (20 U.S.C. 2302(29))

Stipend means a subsistence allowance for a student that is necessary for the student to participate in a project funded under this program.

Support services means services related to curriculum modification, equipment modification, classroom modification, supportive personnel, and instructional aids and devices. (20 U.S.C. 2302(31))

Tribal organization means the recognized governing body of any Indian tribe; any legally established organization of Indians that is controlled, sanctioned, or chartered by such governing body or that is democratically elected by the adult members of the Indian community to be served by the organization and that includes the maximum participation of Indians in all phases of its activities, provided that, in any case where a contract is let or grant made to an organization to perform services benefiting more than one Indian tribe, the approval of each such Indian tribe shall be a prerequisite to the letting or making of such contract or grant. (20 U.S.C. 2326(a)(3); 25 U.S.C. 450b(l))

Tribally Controlled College or University means an institution of higher education that is formally controlled, or has been formally sanctioned or chartered, by the governing body of an Indian tribe or tribes, except that no more than one such institution will be recognized with respect to any such tribe. (20 U.S.C. 2302(33) and 25 U.S.C. 1801(a)(4))

Waiver of Proposed Rulemaking: Under the Administrative Procedure Act (5 U.S.C. 553), the Department generally offers interested parties the opportunity to comment on proposed non-statutory requirements, definitions, and selection criteria. However, section 437(d)(1) of the General Education Provisions Act (GEPA) (20 U.S.C. 1232(d)(1)), allows the Secretary to exempt from rulemaking requirements, non-statutory requirements, definitions, and selection criteria governing the first grant competition under a new or substantially revised program authority. This is the first grant competition for this program under section 116 of the Act and, therefore, qualifies for this exemption. In order to ensure timely grant awards, the Secretary has decided to forgo public comment on the non-statutory requirements, definitions, and selection criteria under the authority of section 437(d)(1) of GEPA. These non-statutory requirements, definitions, and selection criteria will apply to the FY 2006 competition only.

Program Authority: The Carl D. Perkins Career and Technical Education Act of 2006 (Pub. L. 109-270, 20 U.S.C. 2301, et seq.), in particular, section 116. (20 U.S.C. 2326(a)-(g)).

Applicable Regulations: The Education Department General Administrative Regulations (EDGAR) in 34 CFR parts 74, 75, 77, 80, 81, 82, 84, 85, 86, 97, 98, and 99.

Note: The regulations in 34 CFR part 86 apply to institutions of higher education only.

II. Award Information

Type of Award: Discretionary grants.

Estimated Available Funds: $14,632,000 for the first 12 months of the project period. Funding for years two through five is subject to the availability of funds and to a grantee meeting the requirements of 34 CFR 75.253. Fiscal Year 2006 funds will be used for new awards under this competition.

Estimated Range of Awards: $300,000 to $600,000.

Estimated Average Size of Awards: $400,000.

Estimated Number of Awards: 36.

Note: The Department is not bound by any estimates in this Notice.

Project Period: Up to 60 months.

III. Eligibility Information

1. Eligible Applicants: (a) The following entities are eligible for an award under NACTEP:

(i) A federally recognized Indian tribe.

(ii) A tribal organization.

(iii) An Alaska Native entity.

(iv) A Bureau-funded school, except for a Bureau-funded school proposing to use its award to support secondary school career and technical education programs.

(b) Any tribe, tribal organization, Alaska Native entity, or eligible Bureau-funded school may apply individually or as part of a consortium with one or more eligible tribes, tribal organizations, Alaska Native entities, or eligible Bureau-funded schools. (Eligible applicants seeking to apply for funds as a consortium must meet the requirements in 34 CFR 75.127-75.129, which apply to group applications.)

Note: An applicant must include documentation in its application showing that it and, if appropriate, consortium members are eligible according to the requirements in paragraphs (a) and (b) of the Eligible Applicants section of this notice.

Note: In accordance with the definition of the term “tribal organization” in ISDEA (25 U.S.C. 450b(l)), any tribal organization proposing to provide NACTEP services for the benefit of more than one Indian tribe must first obtain the approval of each Indian tribe it proposes to serve and must submit documentation of such approval with its application. Documentation of tribal approval is a prerequisite to the awarding of a NACTEP grant to any tribal organization proposing to serve more than one Indian tribe.

2. Cost Sharing or Matching: This program does not involve cost sharing or matching requirements, but does involve supplement-not-supplant funding provisions.

IV. Application and Submission Information

1. Address To Request Application Package: Linda Mayo or Gwen Washington, U.S. Department of Education, 400 Maryland Avenue, SW., room 11075, Potomac Center Plaza, Washington, DC 20202-7241. Telephone: (202) 245-7792 or (202) 245-7790. Fax: (202) 245-7170. E-Mail: ashi.mayo@ed.gov or gwen.washington@ed.gov. You may also obtain an application package via the Internet from the following address: http://www.ed.gov/GrantApps/.

If you use a telecommunications device for the deaf (TDD), you may call the Federal Relay Service (FRS) at 1-800-877-8339.

Individuals with disabilities may obtain this notice in an alternate format (e.g., Braille, large print, audiotape, or computer diskette) by contacting the program contact persons listed in this section.

2. Content and Form of Application Submission:

Requirements concerning the content of the application, together with the forms you must submit, are in the application package and notice for this competition.

3. Submission Dates and Times:

Applications Available: March 23, 2007.

Deadline for Transmittal of Applications: May 7, 2007.

Applications for grants under this program may be submitted electronically using the Grants.gov Apply site (Grants.gov), or in paper format by mail or hand delivery. For information (including dates and times) about how to submit your application electronically, or by mail or hand delivery, please refer to section IV. 6. Other Submission Requirements in this notice.

We do not consider an application that does not comply with the deadline requirements.

Individuals with disabilities who need an accommodation or auxiliary aid in connection with the application process should contact the person listed under FOR FURTHER INFORMATION CONTACT.

4. Intergovernmental Review: This program is not subject to Executive Order 12372 and the regulations in 34 CFR part 79.

5. Funding Restrictions: We reference regulations outlining funding restriction in the Applicable Regulations section of this notice.

6. Other Submission Requirements

Applications for grants under this competition may be submitted electronically or in paper format by mail or hand delivery.

a. Electronic Submission of Applications.

To comply with the President's Management Agenda, we are participating as a partner in the Governmentwide Grants.gov Apply site. NACTEP, CFDA Number 84.101, is included in this project. We request your participation in Grants.gov.

If you choose to submit your application electronically, you must use the Governmentwide Grants.gov Apply site at http://www.Grants.gov. Through this site, you will be able to download a copy of the application package, complete it offline, and then upload and submit your application. You may not e-mail an electronic copy of a grant application to us.

You may access the electronic grant application for the NACTEP at http://www.Grants.gov. You must search for the downloadable application package for this competition by the CFDA number. Do not include the CFDA number's alpha suffix in your search (e.g., search for 84.101, not 84.101A).

Please note the following:

• Your participation in Grants.gov is voluntary.

• When you enter the Grants.gov site, you will find information about submitting an application electronically through the site, as well as the hours of operation.

• Applications received by Grants.gov are date and time stamped. Your application must be fully uploaded and submitted and must be date and time stamped by the Grants.gov system no later than 4:30 p.m., Washington, DC time, on the application deadline date. Except as otherwise noted in this section, we will not consider your application if it is date and time stamped by the Grants.gov system later than 4:30 p.m., Washington, DC time, on the application deadline date. When we retrieve your application from Grants.gov, we will notify you if we are rejecting your application because it was date and time stamped by the Grants.gov system after 4:30 p.m., Washington, DC time, on the application deadline date.

• The amount of time it can take to upload an application will vary depending on a variety of factors, including the size of the application and the speed of your Internet connection. Therefore, we strongly recommend that you do not wait until the application deadline date to begin the submission process through Grants.gov.

• You should review and follow the Education Submission Procedures for submitting an application through Grants.gov that are included in the application package for this competition to ensure that you submit your application in a timely manner to the Grants.gov system. You can also find the Education Submission Procedures pertaining to Grants.gov at http://e-Grants.ed.gov/help/GrantsgovSubmissionProcedures.pdf.

• To submit your application via Grants.gov, you must complete all steps in the Grants.gov registration process (see http://www.grants.gov/applicants/get_registered.jsp). These steps include (1) Registering your organization, a multi-part process that includes registration with the Central Contractor Registry (CCR); (2) registering yourself as an Authorized Organization Representative (AOR); and (3) getting authorized as an AOR by your organization. Details on these steps are outlined in the Grants.gov 3-Step Registration Guide (see http://www.grants.gov/section910/Grants.govRegistrationBrochure.pdf). You also must provide on your application the same D-U-N-S Number used with this registration. Please note that the registration process may take five or more business days to complete, and you must have completed all registration steps to allow you to submit successfully an application via Grants.gov. In addition you will need to update your CCR registration on an annual basis. This may take three or more business days to complete.

• You will not receive additional point value because you submit your application in electronic format, nor will we penalize you if you submit your application in paper format.

• If you submit your application electronically, you must submit all documents electronically, including all information you typically provide on the following forms: Application for Federal Assistance (SF 424), the Department of Education Supplemental Information for SF 424, Budget Information—Non-Construction Programs (ED 524), and all necessary assurances, certifications, and approvals from tribal entities. Please note that two of these forms—the SF 424 and the Department of Education Supplemental Information for SF 424—have replaced the ED 424 (Application for Federal Education Assistance).

• If you submit your application electronically, you must attach any narrative sections of your application as files in a .DOC (document), .RTF (rich text), or .PDF (Portable Document) format. If you upload a file type other than the three file types specified in this paragraph or submit a password-protected file, we will not review that material. Your electronic application must comply with any page-limit requirements described in this notice.

• After you electronically submit your application, you will receive from Grants.gov an automatic notification of receipt that contains a Grants.gov tracking number. (This notification indicates receipt by Grants.gov only, not receipt by the Department.) The Department then will retrieve your application from Grants.gov and send a second notification to you by e-mail. This second notification indicates that the Department has received your application and has assigned your application a PR/Award number (an ED-specified identifying number unique to your application).

• We may request that you provide us original signatures on forms at a later date.

Application Deadline Date Extension in Case of Technical Issues with the Grants.gov System: If you are experiencing problems submitting your application through Grants.gov, please contact the Grants.gov Support Desk at 1-800-518-4726. You must obtain a Grants.gov Support Desk Case Number and must keep a record of it.

If you are prevented from electronically submitting your application on the application deadline date because of technical problems with the Grants.gov system, we will grant you an extension until 4:30 p.m., Washington, DC time, the following business day to enable you to transmit your application electronically or by hand delivery. You also may mail your application by following the mailing instructions described elsewhere in this notice.

If you submit an application after 4:30 p.m., Washington, DC time, on the application deadline date, please contact the person listed elsewhere in this notice under FOR FURTHER INFORMATION CONTACT and provide an explanation of the technical problem you experienced with Grants.gov, along with the Grants.gov Support Desk Case Number. We will accept your application if we can confirm that a technical problem occurred with the Grants.gov system and that that problem affected your ability to submit your application by 4:30 p.m., Washington, DC time, on the application deadline date. The Department will contact you after a determination is made on whether your application will be accepted.

Note: The extensions to which we refer in this section apply only to the unavailability of, or technical problems with, the Grants.gov system. We will not grant you an extension if you failed to fully register to submit your application to Grants.gov before the application deadline date and time or if the technical problem you experienced is unrelated to the Grants.gov system.

b. Submission of Paper Applications by Mail.

If you submit your application in paper format by mail (through the U.S. Postal Service or a commercial carrier), you must mail the original and two copies of your application, on or before the application deadline date, to the Department at the applicable following address:

By mail through the U.S. Postal Service: U.S. Department of Education, Application Control Center, Attention: (CFDA Number 84.101), 400 Maryland Avenue, SW., Washington, DC 20202-4260 or

By mail through a commercial carrier: U.S. Department of Education, Application Control Center, Stop 4260, Attention: (CFDA Number 84.101), 7100 Old Landover Road, Landover, MD 20785-1506.

Regardless of which address you use, you must show proof of mailing consisting of one of the following:

(1) A legibly dated U.S. Postal Service postmark.

(2) A legible mail receipt with the date of mailing stamped by the U.S. Postal Service.

(3) A dated shipping label, invoice, or receipt from a commercial carrier.

(4) Any other proof of mailing acceptable to the Secretary of the U.S. Department of Education.

If you mail your application through the U.S. Postal Service, we do not accept either of the following as proof of mailing:

(1) A private metered postmark.

(2) A mail receipt that is not dated by the U.S. Postal Service.

If your application is postmarked after the application deadline date, we will not consider your application.

Note: The U.S. Postal Service does not uniformly provide a dated postmark. Before relying on this method, you should check with your local post office.

c. Submission of Paper Applications by Hand Delivery.

If you submit your application in paper format by hand delivery, you (or a courier service) must deliver the original and two copies of your application by hand, on or before the application deadline date, to the Department at the following address: U.S. Department of Education, Application Control Center, Attention: (CFDA Number 84.101), 550 12th Street, SW., Room 7041, Potomac Center Plaza, Washington, DC 20202-4260.

The Application Control Center accepts hand deliveries daily between 8 a.m. and 4:30 p.m., Washington, DC time, except Saturdays, Sundays, and Federal holidays.

Note for Mail or Hand Delivery of Paper Applications: If you mail or hand deliver your application to the Department—

(1) You must indicate on the envelope and—if not provided by the Department—in Item 11 of the SF 424 the CFDA number, including suffix letter, if any, of the competition under which you are submitting your application; and

(2) The Application Control Center will mail to you a notification of receipt of your grant application. If you do not receive this notification within 15 business days from the application deadline date, you should call the U.S. Department of Education Application Control Center at (202) 245-6288.

V. Application Review Information

(1) Selection Criteria: The selection criteria for this program are as follows. The maximum score for each criterion is indicated in parentheses.

(a) Need for project. (5 points) In determining the need for the proposed project, we consider the extent of the need for the services to be provided or the activities to be carried out by the proposed project, as evidenced by data such as local labor market demand or occupational trends, or from surveys, recommendations from accrediting agencies, or tribal economic development plans.

(b) Significance. (15 points) In determining the significance of the proposed project, we consider the following factors:

(i) The potential contribution of the proposed project toward increasing the understanding of educational needs, issues, or strategies for providing career and technical education to American Indians and Alaska Natives. (5 points)

(ii) The likelihood that the proposed project will result in system change or improvement in the applicant's educational program as evidenced by the types of training and activities identified in the project application. (5 points)

(iii) The extent to which the proposed project is likely to build local capacity to provide, improve, or expand services that address the career and technical needs of the target population. (5 points)

(c) Quality of the project design. (25 points) In determining the quality of the design of the proposed project, we consider the following factors:

(i) The extent to which goals, objectives, and outcomes are clearly specified and measurable (e.g., identification of the requirements for each course of study to be provided under the project, the technical skill proficiencies to be taught and industry-recognized standards or competency assessments to be used, including related training areas and a description of the industry certifications, credentials, certificates, or degrees that students may earn; expected enrollments, completions, and student placements in jobs, military specialties, and continuing education/training opportunities in each career training area; the number of teachers, counselors, and administrators to be trained). (10 points)

(ii) The extent to which the design of the proposed project is appropriate to, and will successfully address, the needs of the target population or other identified needs, as evidenced by the applicant's description of programs and activities that align with the target population's needs. (5 points)

(iii) The extent to which the design for implementing and evaluating the proposed project plans for and is likely to result in the development of information to guide possible dissemination of information on project practices, activities or strategies, including information about the effectiveness of the approach or strategies employed by the project, planned dissemination activities, the kind of practices, activities, or strategies to be disseminated, the target audience for the dissemination of such practices, activities, or strategies, and the proposed uses for such disseminated practices, activities, or strategies. (5 points)

(iv) The extent to which the proposed project will establish linkages with or will be coordinated with similar or related efforts, and with community, State, or Federal resources, as appropriate. (5 points)

(d) Quality of project services. (20 points) In determining the quality of the services to be provided by the proposed project, we consider the following factors:

(i) The extent to which the training or professional development services to be provided by the proposed project are of sufficient quality, intensity, and duration to lead to improvements in practice among the project staff and instructors, including the extent to which the proposed training and professional development plans address ways in which learning gaps will be addressed and how continuous review of performance will be conducted to identify training needs. (5 points)

(ii) The extent to which the services to be provided by the proposed project will create opportunities for students to receive an industry-recognized credential; become employed in high-skill, high-wage, and high-demand occupations; or both. (5 points)

(iii) The extent to which the services proposed in the project will create opportunities to acquire technical skill proficiencies, industry certifications, or the skills identified by State or industry-recognized career and technical education programs or professions. In describing the services, there must be a clear link between the services and the skill proficiencies, industry certifications, credentials, certificates, or degrees that students may earn. (10 points)

(e) Quality of project personnel. (15 points) In determining the quality of project personnel, we consider the following factors:

(i) The extent to which the applicant encourages applications for employment from persons who are members of groups that have traditionally been underrepresented based on color, national origin, gender, age, or disability. (5 points)

(ii) The qualifications, including relevant training, expertise, and experience, of the project director, key personnel, and project consultants. (5 points)

(iii) The extent to which the project will use instructors who are certified to teach in the field in which they will provide instruction. (5 points)

(f) Adequacy of resources. (20 points) In determining the adequacy of resources for the proposed project, we consider the following factors:

(i) The adequacy of support, including facilities, equipment, supplies, and other resources, from the applicant organization(s) and the tribal entity or entities to be served. (5 points)

(ii) The extent to which the budget is adequate and costs are reasonable in relation to the objectives of the proposed project. (5 points)

(iii) The relevance and demonstrated commitment (e.g., through written career and technical education agreements, memoranda of understanding, letters of support and commitment, or commitments to employ project participants, as appropriate) of the applicant, members of the consortium, local employers, or tribal entities to be served by the project. (5 points)

(iv) The potential for continued support of the project after Federal funding ends. (5 points)

(g) Quality of the management plan. (15 points) In determining the quality of the management plan for the proposed project, we consider the following factors:

(i) The adequacy of the management plan to achieve the objectives of the proposed project on time and within budget, including clearly defined responsibilities, timelines, and the milestones and performance standards for accomplishing project tasks. (5 points)

(ii) The extent to which the time commitments of the project director and other key project personnel are appropriate and adequate to meet the objectives of the proposed project. (5 points)

(iii) The adequacy of mechanisms for ensuring high-quality products and services from the proposed project. (5 points)

(h) Quality of the project evaluation. (25 points) In determining the quality of the evaluation, we consider the following factors:

(i) The extent to which the methods of evaluation proposed by the grantee are thorough, feasible, and appropriate to the goals, objectives, and outcomes of the proposed project. (5 points)

(ii) The extent to which the methods of evaluation include the use of objective performance measures that are clearly related to the intended outcomes of the project and the Government Performance and Results Act of 1993 (GPRA) performance measures discussed elsewhere in this notice, and will produce quantitative and qualitative data, to the extent possible. (5 points)

(iii) The extent to which the methods of the evaluation include processes that consider the validity and integrity of data collection and analysis; accessibility of appropriate and timely data; accurate descriptions of performance; collection processes that yield unbiased, unprejudiced, and impartial data results; and the extent to which representation of the data clearly communicates an accurate picture of performance. (5 points)

(iv) The extent to which the methods of evaluation will provide performance feedback and continuous improvement toward achieving intended outcomes. (5 points)

(v) The quality of the evaluation to be conducted by an external evaluator with the necessary background and technical expertise to carry out the evaluation. (5 points)

2. Review and Selection Process: In addition to the points to be awarded to applicants based on the selection criteria, under section 116(e) of the Act the Secretary awards—

(a) Up to 10 points to applications that propose exemplary approaches that involve, coordinate with, or encourage tribal economic development plans; and

(b) Five points to applications from tribally controlled colleges or universities that—

(i) Are accredited or are candidates for accreditation by a nationally recognized accreditation organization as an institution of postsecondary career and technical education; or

(ii) Operate career and technical education programs that are accredited or are candidates for accreditation by a nationally recognized accreditation organization and issue certificates for completion of career and technical education programs. (20 U.S.C. 2326(e))

VI. Award Administration Information

1. Award Notices: If your application is successful, we notify your U.S. Representative and U.S. Senators and send you a Grant Award Notification (GAN). We may also notify you informally.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Reporting: At the end of a project period, you must submit a final performance report, including financial information, as directed by the Secretary. If you receive a multi-year award, you must submit an annual performance report that provides the most current performance and financial expenditure information as specified by the Secretary in 34 CFR 74.51, 75.118 and 80.40.

4. Performance Measures: Under GPRA, Federal departments and agencies must clearly describe the goals and objectives of their programs, identify resources and actions needed to accomplish these goals and objectives, develop a means of measuring progress made, and regularly report on their achievement. One important source of program information on successes and lessons learned is the project evaluation conducted under individual grants. The Department has developed the following core factors and measures for evaluating the overall effectiveness of NACTEP projects:

(a) At the secondary level: An increase in the percentage of career and technical education students who—

(i) Attain academic proficiency, as demonstrated by meeting academic content standards and student academic achievement standards that meet challenging State defined academic standards for reading/language arts and mathematics;

(ii) Attain career and technical skill proficiencies, including student achievement on technical assessments that are aligned with industry-recognized standards;

(iii) Attain a secondary school diploma;

(iv) If a credential, certificate, or degree is offered by the State in which the project operates, in conjunction with a secondary school diploma, attain a proficiency credential, certificate, or degree in conjunction with a secondary school diploma; and

(v) Are placed in—

(1) Postsecondary education or advanced training;

(2) Military service; or

(3) Employment.

(b) At the postsecondary level: An increase in the percentage of career and technical education students who—

(i) Attain challenging career and technical skill proficiencies, including student achievement on technical assessments that are aligned with industry-recognized standards;

(ii) Attain an industry-recognized credential, a certificate, or a degree;

(iii) Are retained in postsecondary education or transfer to a baccalaureate degree program;

(iv) Are placed in—

(1) Military service; or

(2) Apprenticeship programs; and

(v) Are placed or have been retained in employment, including in high-skill, high-wage, or high-demand occupations or professions.

(c) At the adult education level: An increase in the percentage of participating adult career and technical education students who—

(i) Enroll in a postsecondary education or training program;

(ii) Attain career and technical education skill proficiencies aligned with industry-recognized standards;

(iii) Receive industry-recognized credentials or certificates; and

(iv) Are placed in a job, upgraded in a job, or retain employment.

Note: All grantees will be expected to submit an annual performance report addressing these performance measures, to the extent feasible and to the extent that they apply to each grantee's NACTEP project.

VII. Agency Contacts

For Further Information Contact: Linda Mayo or Gwen Washington, U.S. Department of Education, 400 Maryland Avenue, SW., room 11075, Potomac Center Plaza, Washington, DC 20202-7241. Telephone: (202) 245-7792 or (202) 245-7790, respectively, or by e-mail: linda.mayo@ed.gov, gwen.washington@ed.gov.

If you use a telecommunications device for the deaf (TDD), you may call the Federal Relay Service (FRS) at 1-800-877-8339.

Individuals with disabilities may obtain this notice in an alternative format (e.g., Braille, large print, audiotape, or computer diskette) on request to the program contact persons listed in this section.

Electronic Access to This Document: You may view this document, as well as all other documents of the Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: March 19, 2007.
Troy R. Justesen,
Assistant Secretary for Vocational and Adult Education.

[FR Doc. E7-5372 Filed 3-22-07; 8:45 am]

BILLING CODE 4000-01-P